DEPARTMENT OF HOMELAND SECURITY

U.S. Customs and Border Protection

Accreditation and Approval of Saybolt LP (LaPlace, LA) as a Commercial Laboratory

AGENCY: U.S. Customs and Border Protection, Department of Homeland Security.

ACTION: Notice of accreditation and approval of Saybolt LP (LaPlace, LA), as a commercial laboratory.

SUMMARY: Notice is hereby given, pursuant to CBP regulations, that Saybolt LP (LaPlace, LA), has been accredited to test petroleum and certain petroleum products for customs purposes for the next three years as of April 7, 2017.

DATES: Saybolt LP (LaPlace, LA) was approved and accredited as a commercial gauger and laboratory as of April 7, 2017. The next triennial inspection date will be scheduled for April 2020.

FOR FURTHER INFORMATION CONTACT: Christopher J. Mocella, Laboratories and Scientific Services Directorate, U.S. Customs and Border Protection, 1300 Pennsylvania Avenue NW, Suite 1500N, Washington, DC 20229, tel. 202-344-1060.

SUPPLEMENTARY INFORMATION: Notice is hereby given pursuant to 19 CFR 151.12 that Saybolt LP, 109 Woodland Dr., LaPlace, LA 70068, has been accredited to test petroleum and certain petroleum products for customs purposes, in accordance with the provisions of 19 CFR 151.12.

Saybolt LP (LaPlace, LA) is accredited for the following laboratory analysis procedures and methods for petroleum and certain petroleum products set forth by the U.S. Customs and Border Protection Laboratory Methods (CBPL) and American Society for Testing and Materials (ASTM):

CBPL No. | ASTM | Title
27-03 | D4006 | Standard Test Method for Water in Crude Oil by Distillation.
27-04 | D95 | Standard Test Method for Water in Petroleum Products and Bituminous Materials by Distillation.
27-05 | D4928 | Standard Test Method for Water in Crude Oils by Coulometric Karl Fischer Titration.
27-06 | D473 | Standard Test Method for Sediment in Crude Oils and Fuel Oils by the Extraction Method.
27-08 | D86 | Standard Test Method for Distillation of Petroleum Products.
27-11 | D445 | Standard Test Method for Kinematic Viscosity of Transparent and Opaque Liquids.
27-13 | D4294 | Standard Test Method for Sulfur in Petroleum and Petroleum Products by Energy-Dispersive X-ray Fluorescence Spectrometry.
27-46 | D5002 | Standard Test Method for Density and Relative Density of Crude Oils by Digital Density Analyzer.
27-48 | D4052 | Standard Test Method for Density and Relative Density of Liquids by Digital Density Meter.
27-50 | D93 | Standard Test Methods for Flash-Point by Pensky-Martens Closed Cup Tester.
27-54 | D1796 | Standard Test Method for Water and Sediment in Fuel Oils by the Centrifuge Method.
27-58 | D5191 | Standard Test Method For Vapor Pressure of Petroleum Products (Mini Method).

Anyone wishing to employ this entity to conduct laboratory analyses should request and receive written assurances from the entity that it is accredited by the U.S. Customs and Border Protection to conduct the specific test service requested. Alternatively, inquiries regarding the specific test service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: February 14, 2018.
James D. Sweet,
Acting Executive Director, Laboratories and Scientific Services.

[FR Doc. 2018-03601 Filed 2-21-18; 8:45 am]

BILLING CODE 9111-14-P